DEPARTMENT OF ENERGY

Federal Energy Regulatory Commission

[Docket No. RP97-287-053]

El Paso Natural Gas Company; Notice of Proposed Changes in FERC Gas Tariff

August 4, 2000.

Take notice that on July 31, 2000, El Paso Natural Gas Company (El Paso) tendered for filing and acceptance by the Federal Energy Regulatory Commission (Commission) the following tariff sheet to its FERC Gas Tariff, Second Revised Volume No. 1-A, to become effective August 1, 2000:

Thirty-Second Revised Sheet No. 30

El Paso states that the above tariff sheet is being filed to implement a negotiated rate contract pursuant to the Commission's Statement of Policy on Alternatives to Traditional Cost-of-Service Ratemaking for Natural Gas Pipelines and Regulation of Negotiated Transportation Services of Natural Gas Pipelines issued January 31, 1996 at Docket Nos. RM95-6-000 and RM96-7-000.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-20205 Filed 8-9-00; 8:45 am]

BILLING CODE 6717-01-M